DEPARTMENT OF HEALTH AND HUMAN SERVICES

National Institutes of Health

Center for Scientific Review; Amended Notice of Meeting

Notice is hereby given of a change in the meeting of the Center for Scientific Review Special Emphasis Panel, June 20, 2007, 8 a.m. to June 21, 2007, 11 p.m., National Institutes of Health, 6701 Rockledge Drive, Bethesda, MD 20892 which was published in the Federal Register on May 4, 2007, 72 FR 25324-25325.

The meeting will be held July 12, 2007 to July 13, 2007. The meeting time and location remain the same. The meeting is closed to the public.

Dated: June 28, 2007.
Anna Snouffer,
Deputy Director, Office of Federal Advisory Committee Policy.

[FR Doc. 07-3297 Filed 7-5-07; 8:45 am]

BILLING CODE 4140-01-M